INTERNATIONAL TRADE COMMISSION

[Investigation No. 731-TA-1022 (Final)]

Refined Brown Aluminum Oxide from China

Determination

On the basis of the record ¹ developed in the subject investigation, the United States International Trade Commission (Commission) determines,² pursuant to section 735(b) of the Tariff Act of 1930 (19 U.S.C. 1673d(b)) (the Act), that an industry in the United States is materially injured by reason of imports from China of refined brown aluminum oxide, provided for in subheading 2818.10.20 of the Harmonized Tariff Schedule of the United States, that have been found by the Department of Commerce (Commerce) to be sold in the United States at less than fair value (LTFV). Concurrently, the Commission finds that critical circumstances do not exist with respect to imports of the subject product from China.

¹ The record is defined in sec. 207.2(f) of the Commission's Rules of Practice and Procedure (19 CFR 207.2(f)).

² Commissioner Daniel R. Pearson not participating.

Background

The Commission instituted this investigation effective November 20, 2002, following receipt of a petition filed with the Commission and Commerce by Washington Mills Company, Inc., North Grafton, MA.³ The final phase of the investigation was scheduled by the Commission following notification of a preliminary determination by Commerce that imports of refined brown aluminum oxide from China were being sold at LTFV within the meaning of section 733(b) of the Act (19 U.S.C.1673b(b)). Notice of the scheduling of the final phase of the Commission's investigation and of a public hearing to be held in connection therewith was given by posting copies of the notice in the Office of the Secretary, U.S. International Trade Commission, Washington, DC, and by publishing the notice in the Federal Register of May 23, 2003 (68 FR 28255). The hearing was held in Washington, DC, on September 23, 2003, and all persons who requested the opportunity were permitted to appear in person or by counsel.

³ On November 27, 2002, the petition was amended to include two additional petitioners, C-E Minerals, King of Prussia, PA, and Treibacher Schleifmittel Corporation, Niagara Falls, NY.

The Commission transmitted its determination in this investigation to the Secretary of Commerce on November 10, 2003. The views of the Commission are contained in USITC Publication 3643 (November 2003), entitled Refined Brown Aluminum Oxide from China: Investigation No. 731-TA-1022 (Final).

Issued: November 7, 2003.
By order of the Commission.
Marilyn R. Abbott,
Secretary.

[FR Doc. 03-28427 Filed 11-12-03; 8:45 am]

BILLING CODE 7020-02-P